DEPARTMENT OF ENERGY

Federal Energy Regulatory Commission

[Docket No. RP02-219-000]

Northern Natural Gas Company; Notice of Proposed Changes in FERC Gas Tariff

April 5, 2002.

Take notice that on April 1, 2002, Northern Natural Gas Company (Northern) tendered for filing to become part of its FERC Gas Tariff, the following tariff sheet proposed to be effective on May 1, 2002:

Fifth Revised Volume No. 1

Fourth Revised Sheet No. 103

Third Revised Sheet No. 200

Second Revised Sheet No. 110

Ninth Revised Sheet No. 201

Second Revised Sheet No. 125

Sheet No. 223

Second Revised Sheet No. 125F

Fifth Revised Sheet No. 226

Second Revised Sheet No. 133

Sheet No. 234

First Revised Sheet No. 149

First Revised Sheet No. 278

First Revised Sheet No. 163

Fifth Revised Sheet No. 303

Original Volume No. 2

44 Revised Sheet No. 1C.a

Northern states that the purpose of this filing is to remove obsolete sections from the tariff and clean-up minor items such as incorrect references.

Northern further states that copies of the filing have been mailed to each of its customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-8911 Filed 4-11-02; 8:45 am]

BILLING CODE 6717-01-P